DEPARTMENT OF DEFENSE

Department of the Army; Corps of Engineers

Intent To Prepare a Draft Environmental Impact Statement for the Mississippi River-Gulf Outlet, Louisiana, Navigation Project—Bank Stabilization

AGENCY: Department of the Army, U.S. Army Corps of Engineers, DoD.

ACTION: Notice of intent.

SUMMARY: Pursuant to section 102(2)(C) of the National Environmental Policy Act (NEPA) of 1969, as amended, the U.S. Army Corps of Engineers, New Orleans District (Corps) intends to prepare a Draft Environmental Impact Statement (DEIS) for the Mississippi River—Gulf Outlet, Louisiana, Navigation Project—Bank Stabilization. In 2006, Congress authorized the Corps to provide foreshore bank protection in the form of revetment and/or rock to protect endangered wetlands and provide erosion protection for hurricane protection projects along the Mississippi River-Gulf Outlet (MRGO) channel. The expenditure of funds will be limited to those activities necessary for the protection of existing wetlands, navigation, and flood and storm damage reduction projects along the MRGO channel. Funds shall not be expended on any project that would otherwise preclude or foreclose any final disposition of the navigation channel. The DEIS will analyze potential direct, indirect, and cumulative impacts of implementing bank stabilization features along the MRGO and associated areas of Lake Borgne. The study area, located in the vicinity of St. Bernard Parish, LA, encompasses the entire navigation channel from Breton Sound to the Port of New Orleans, St. Bernard and Orleans Parishes, LA.

DATES: Submit comments on or before January 4, 2007.

ADDRESSES: Submit comments to Dr. William P. Klein, Jr., U.S. Army Corps of Engineers, New Orleans District, CEMVN-PM-RS, PO Box 60267, New Orleans, LA 70160-0267.

FOR FURTHER INFORMATION CONTACT: Dr. William P. Klein, Jr., Telephone: (504) 862-2540.

SUPPLEMENTARY INFORMATION:

1. Authority:

House Report 109-359 of the Fiscal Year 2006 Supplemental Appropriations Act directed the Corps to restore navigation channels and harbors to prestorm conditions and to repair flood damage reduction and other projects in states affected by Hurricanes Katrina, Rita, Ophelia, and Wilma. Funds totaling $75,000,000 are provided for authorized operation and maintenance activities to enhance estuarine habitats through monitoring and control of marine and river flow and reef building initiatives and providing foreshore bank protection in the form of revetment and rock placement to protect endangered wetlands and provide erosion protection for hurricane protection projects along the MRGO Channel. The expenditure of funds shall be limited to those activities necessary for the protection of existing wetlands, navigation, and flood and storm damage reduction projects along the MRGO Channel. Funds shall not be expended on any project that would otherwise preclude for foreclose any final disposition of the navigation channel; funds are not available to conduct dredging of the MRGO Channel.

2. Proposed Action

The proposed action would provide foreshore bank protection in the form of revetment and/or rock to protect endangered wetlands and provide erosion protection for flood and storm damage reduction projects along the MRGO Channel.

3. Need for Proposed Action

Construction and maintenance of the MRGO caused widespread wetland loss and damage to estuarine habitats from the outer barrier islands in the lower Chandeleur chain to the cypress forests and tidal fresh mashes in the western reaches of the Lake Borgne basin. During construction of the MRGO, dredging and filling destroyed more than 19,000 acres of wetlands and breached an important hydrologic boundary when the channel cut through Bayou La Loutre. Continued operation of the MRGO results in high rates of shoreline erosion from ship wakes, which destroys wetlands and threatens the integrity of the Lake Borgne shoreline, adjacent communities, infrastructure, and cultural resources in the area. In addition, severe erosion of the MRGO channel continues to facilitate the transition of the upper Pontchartrain Basin estuary toward a more saline system. Land loss in the project area is due to both natural and man-made factors. Since 1932, over 51,000 acres have been lost from the project area. From 1964 to 1996, the shoreline erosion rate along the north bank varied from 8.7 feet per year (ft/yr) to more than 38 ft/yr, depending on the particular reach. The average erosion rate on the south bank is about 12.8 ft/yr. Erosion along the north bank of the MRGO results in the direct loss of approximately 100 acres of shoreline brackish marsh every year as well as causing additional losses of interior wetlands and shallow ponds as a result of high tidal ranges and rapid water exchange through the modified watercourse system.

4. Study Alternatives

Based upon preliminary analysis, alternatives recommended for consideration and more detailed analysis include: the No Action alternative; construction of foreshore dikes for bank stabilization; and various configurations of rock, earth, shell, aggregate, sheet pile, or some combination. Flotation access channels may be required to provide access to construction sites in the shallow open water zone adjacent to exposed banklines.

The decision whether and where to install the bank stabilization features will be based on evaluation of the potential direct, indirect, and cumulative impacts of the proposed action. That decision will reflect the national concern for both protection and utilization of important resources. The benefits that reasonably may be expected to accrue from the proposal must be balanced against any reasonably foreseeable detriments.

5. Scoping Process

The Council on Environmental quality (CEQ) regulations implementing the NEPA process directs federal agencies that have made a decision to prepare an environmental impact statement to engage in a public scoping process. The scoping process is designed to provide an early and open means of determining the scope of issues (problems, needs, and opportunities) to be identified and addressed in the DEIS. Scoping is the process used to: (a) Identify the affected public and agency concerns; (b) facilitate an efficient DEIS preparation process; (c) define the issues and alternatives that will be examined in detail in the DEIS; and (d) save time in the overall process by helping to ensure that the draft statements adequately address relevant issues. Scoping is a process, not an event or a meeting. Scoping continues throughout the DEIS preparation process and may involve meetings, telephone conversations, and/or written comments (Council on Environmental Quality, Memorandum for General Counsel, April 30, 1981).

6. Request for Scoping Comments

A separate public notice will be mailed to affected and interested parties requesting comments regarding the scope of issues to be addressed and for identifying the significant issues related to the proposed action. See DATES for the scoping comment period. Affected and interested parties may submit written comments to Dr. Klein (see ADDRESSES) or to the following e-mail address: mrgobks@mvn02.usace.army.mil. Comments received as a result of the scoping process will be compiled into a scoping report and will be available to all scoping participants and interested parties. Scoping comments will be considered in the plan formulation process.

7. Public Involvement

Scoping is a critical component of the overall public involvement program. A public involvement program will be initiated and maintained to solicit input from affected Federal, state, and local agencies, Indian tribes, and other interested parties.

8. Interagency Coordination

Coordination will be maintained with the U.S. Fish and Wildlife Service and the National Marine Fisheries Service regarding threatened and endangered species under their respective jurisdictional responsibilities. Coordination will be maintained with the Advisory Counsel on Historic Preservation and the Louisiana State Historic Preservation Officer. The Louisiana Department of Natural Resources will be consulted regarding consistency with the Coastal Zone Management Act. The Louisiana Department of Wildlife and Fisheries will be contacted concerning potential impacts to Natural and Scenic Streams.

9. Availability of Draft Environmental Impact Statement

It is anticipated that the DEIS will be available for public review mid-2007. Interested parties will have an opportunity to comment on the DEIS during the 45-day comment period following publication of the Notice of Availability in the Federal Register.

Dated: December 4, 2006.
Richard P. Wagenaar,
Colonel, U.S. Army, District Commander.

[FR Doc. 06-9636 Filed 12-11-06; 8:45 am]

BILLING CODE 3710-84-M